FEDERAL DEPOSIT INSURANCE CORPORATION

FDIC Advisory Committee on Economic Inclusion; Notice of Meeting

AGENCY: Federal Deposit Insurance Corporation (FDIC).

ACTION: Notice of open meeting.

SUMMARY: In accordance with the Federal Advisory Committee Act, notice is hereby given of a meeting of the FDIC Advisory Committee on Economic Inclusion. The Advisory Committee will provide advice and recommendations on initiatives to expand access to banking services by underserved populations. The meeting is open to the public. In alignment with the Center for Disease Control's guidelines related to current and potential coronavirus developments and the Corporation's return to office plan, the public's means to observe this meeting of the Advisory Committee on Economic Inclusion will be both in-person and via a Webcast live on the internet. In addition, the meeting will be recorded and subsequently made available on-demand approximately two weeks after the event. To view the live event, visit http://fdic.windrosemedia.com.

DATES: Thursday, October 27, 2022, from 9:00 a.m. to 4:00 p.m.

ADDRESSES: The meeting will be held in the FDIC Board Room on the 6th floor of the FDIC Building located at 550 17th Street NW, Washington, DC. If you require a reasonable accommodation to participate, please email ReasonableAccommodationRequests@fdic.gov to make necessary arrangements. To view the recording, visit http://fdic.windrosemedia.com/index.php?category=Advisory+Committee+on+Economic+Inclusion+-+(Come-IN).

FOR FURTHER INFORMATION CONTACT: Requests for further information concerning the meeting may be directed to Debra A. Decker, Committee Management Officer of the FDIC at (202) 898-8748.

SUPPLEMENTARY INFORMATION:

Agenda: The agenda will include updates from Committee members about key challenges facing their communities or organizations. There will also be panel discussions on maintaining confidence in banks and deposit insurance as well as a presentation and review of data from the 2021 Household Survey of the Unbanked and Underbanked. The agenda is subject to change. Any changes to the agenda will be announced at the beginning of the meeting.

Type of Meeting: The meeting will be open to the public, limited only by the space available on a first-come, first-served basis. For security reasons, members of the public will be subject to security screening procedures and must present a valid photo identification to enter the building. The FDIC will provide attendees with auxiliary aids (e.g., sign language interpretation) required for this meeting. Those attendees needing such assistance should email InterpreterDC@fdic.gov at least two days before the meeting to make necessary arrangements. Written statements may be filed with the committee before or after the meeting. This meeting of the Advisory Committee on Economic Inclusion will be Webcast live via the internet http://fdic.windrosemedia.com. For optimal viewing, a high-speed internet connection is recommended. To view the recording, visit http://fdic.windrosemedia.com/index.php?category=Advisory+Committee+on+Economic+Inclusion+-+(Come-IN).

Federal Deposit Insurance Corporation.
Dated at Washington, DC, on October 5, 2022.
James P. Sheesley,
Assistant Executive Secretary.

[FR Doc. 2022-22071 Filed 10-11-22; 8:45 am]

BILLING CODE 6714-01-P